FEDERAL COMMUNICATIONS COMMISSION

47 CFR Part 73

[DA 08-31; MB Docket No. 05-295; RM-11280]

Radio Broadcasting Services; Cumberland, KY, Glade Spring, Marion, and Weber City, VA

AGENCY: Federal Communications Commission.

ACTION: Final rule; grant of petition for reconsideration.

SUMMARY: The staff reinstates and grants a rulemaking petition filed by JBL Broadcasting, Inc., seeking the substitution of Channel 274C3 for Channel 274A at Cumberland, Kentucky, the reallotment of Channel 274C3 from Cumberland to Weber City, Virginia, and the associated modification of the license for Station WVEK-FM based upon changed circumstances that have occurred since the release of the Report and Order in this proceeding. Although JBL's rulemaking petition was denied due to short-spacings to two pending and cut-off applications, recent amendments to those applications removed the conflicts and now permit the rulemaking petition to be granted. With this action, the proceeding is terminated. See SUPPLEMENTARY INFORMATION.

DATES: Effective February 18, 2008.

FOR FURTHER INFORMATION CONTACT: Andrew J. Rhodes, Media Bureau, (202) 418-2180.

SUPPLEMENTARY INFORMATION: This is a synopsis of the Commission's Memorandum Opinion and Order, MB Docket No. 05-295, adopted January 2, 2008, and released January 4, 2008. The full text of this Commission decision is available for inspection and copying during normal business hours in the FCC Reference Information Center (Room CY-A257), 445 12th Street, SW., Washington, DC 20554. The complete text of this decision may also be purchased from the Commission's copy contractor, Best Copy and Printing, Inc., Portals II, 445 12th Street, SW., Room CY-B402, Washington, DC 20554, telephone 1-800-378-3160 or http://www.BCPIWEB.com.

To accommodate the reallotment of Station WVEK-FM to Weber City, Virginia, the Memorandum Opinion and Order also substituted Channel 263A for Channel 274A at Glade Spring, Virginia, and modified the construction permit for Station WFYE(FM) accordingly. It also substituted Channel 273A for Channel 263A at Marion, Virginia, and modified the license for Station WOLD-FM, accordingly. The Report and Order in this proceeding previously denied JBL Broadcasting, Inc.'s rulemaking petition. See 71 FR 36741 (June 28, 2006).

The reference coordinates for Channel 274C3 at Weber City, Virginia, are 36-31-36 NL and 82-35-13 WL, for Channel 263A at Glade Spring, Virginia, are 36-47-50 NL and 81-36-52 WL, and for Channel 273A at Marion, Virginia, are 36-54-10 NL and 81-32-27 WL.

JBL Broadcasting, Inc.'s proposal was formerly a rule change to Section 73.202(b), the FM Table of Allotments. See 70 FR 70777 (November 23, 2005). As a result of changes to the Commission's processing rules, modifications of FM channels for existing stations are no longer listed in Section 73.202(b) and are instead reflected in the Media Bureau's Consolidated Data Base System (CDBS). See Revision of Procedures Governing Amendments to FM Table of Allotments and Changes of Community of License in the Radio Broadcast Services, Report and Order, 71 FR 76208 (December 20, 2006). Nevertheless, a summary of the Memorandum Opinion and Order in the instant proceeding is being published in the Federal Register because part of JBL's proposal involved a channel substitution for a then vacant allotment at Glade Spring. Although the Memorandum Opinion and Order set forth an effective date of February 18, 2008, the modifications to the authorizations for Stations WVEK-FM, WFYE (FM), and WOLD-FM will be effective 30 days after publication of this summary in the Federal Register in compliance with Sections 1.427 and 1.429 of the Commission's rules.

This document is not subject to the Congressional Review Act. (The Commission is, therefore, not required to submit a copy of this Report and Order to GAO, pursuant to the Congressional Review Act, see 5 U.S.C. 801(a)(1)(A) because no changes are being made 47 CFR Section 73.202(b)).

List of Subjects in 47 CFR Part 73

Radio, Radio broadcasting.

Federal Communications Commission.
John A. Karousos,
Assistant Chief, Audio Division, Media Bureau.

[FR Doc. E8-1321 Filed 1-24-08; 8:45 am]

BILLING CODE 6712-01-P